DEPARTMENT OF ENERGY

Federal Energy Regulatory Commission

Notice of Filings

June 2, 2005.

Take notice that the Commission received the following electric rate filings:

Docket Numbers: ER01-2317-005.

Applicants: Metro Energy, L.L.C.

Description: Metro Energy, LLC submits its revised Tariff incorporating the change in status reporting requirements provisions under ER01-2317.

Filed Date: 05/27/2005.

Accession Number: 20050601-0009.

Comment Date: 5 p.m. Eastern Time on Friday, June 17, 2005.

Docket Numbers: ER03-1312-008.

Applicants: Midwest Independent Transmission System Operator, Inc.

Description: Midwest Independent Transmission System Operator, Inc. submits proposed revisions to its Open Access Transmission & Energy Markets Tariff, FERC Electric Tariff, Third Revised Volume 1 in compliance with the Commission's March 29, 2005 order.

Filed Date: 05/27/2005.

Accession Number: 20050601-0014.

Comment Date: 5 p.m. Eastern Time on Friday, June 17, 2005.

Docket Numbers: ER05-1028-000.

Applicants: Southern Company Services, Inc.

Description: Southern Co. Services Inc., as agent for Alabama Power Company, et al., submits the Generator Balancing Service Agreement between KGen Murray I and II LLC and Southern Companies dated as of 5/1/05.

Filed Date: 05/27/2005.

Accession Number: 20050531-0013.

Comment Date: 5 p.m. Eastern Time on Friday, June 17, 2005.

Docket Numbers: ER05-1029-000.

Applicants: Midwest Independent Transmission System Operator, Inc.

Description: Midwest Independent Transmission System Operator, Inc. submits proposed revisions to its Open Access Transmission and Energy Markets Tariff, FERC Electric Tariff, Third Revised Volume 1, etc., under ER05-1029.

Filed Date: 05/27/2005.

Accession Number: 20050601-0022.

Comment Date: 5 p.m. Eastern Time on Friday, June 17, 2005.

Docket Numbers: ER05-1030-000.

Applicants: Pennsylvania Electric Company.

Description: Pennsylvania Electric Co. submits an amended Interconnection Agreement with Penelec and Reliant Energy Mid-Atlantic Power Holdings, LLC and Reliant Energy Maryland Holdings, LLC under ER05-1030.

Filed Date: 05/27/2005.

Accession Number: 20050601-0021.

Comment Date: 5 p.m. Eastern Time on Friday, June 17, 2005.

Docket Numbers: ER05-1031-000.

Applicants: PJM Interconnection, L.L.C.

Description: PJM Interconnection, L.L.C. submits five Network Integration Transmission Service Agreements executed by certain customers taking service under the PJM Open Transmission Tariff under ER05-1031.

Filed Date: 05/27/2005.

Accession Number: 20050601-0026.

Comment Date: 5 p.m. Eastern Time on Friday, June 17, 2005.

Docket Numbers: ER05-1032-000.

Applicants: Wisconsin Electric Power Company.

Description: Wisconsin Electric Power Co. submits its Third Revised Power Sale Agreement with Wisconsin Public, Inc. under ER05-1032.

Filed Date: 05/27/2005.

Accession Number: 20050601-0019.

Comment Date: 5 p.m. Eastern Time on Friday, June 17, 2005.

Docket Numbers: ER05-1033-000.

Applicants: Wolverine Power Supply Cooperative, Inc.

Description: Wolverine Power Supply Cooperative, Inc. submits new Amended and Consolidated Wholesale Power Contracts between Wolverine and four member distribution cooperatives under ER05-1033.

Filed Date: 05/27/2005.

Accession Number: 20050601-0018.

Comment Date: 5 p.m. Eastern Time on Friday, June 17, 2005.

Docket Numbers: ER05-1034-000.

Applicants: Midwest Independent Transmission System Operator, Inc.

Description: Midwest Independent Transmission System Operator, Inc. submits proposed revisions to the Midwest ISO Agreement under ER05-1034.

Filed Date: 05/27/2005.

Accession Number: 20050601-0017.

Comment Date: 5 p.m. Eastern Time on Friday, June 17, 2005.

Docket Numbers: ER05-1035-000.

Applicants: San Diego Gas & Electric Company.

Description: San Diego Gas & Electric Co. submits its 2004 Costs and Accruals for Post-Employment Benefits other than Pensions under ER05-1035.

Filed Date: 05/27/2005.

Accession Number: 20050601-0016.

Comment Date: 5 p.m. Eastern Time on Friday, June 17, 2005.

Docket Numbers: ER05-1036-000.

Applicants: Midwest Independent Transmission System Operator, Inc.

Description: Midwest Independent Transmission System Operator, Inc. submits a Large Generator Interconnection Agreement among Fenton Power Partners I, LLC, Midwest ISO and Northern States Power Company d/b/a Xcel Energy under ER05-1036.

Filed Date: 05/27/2005.

Accession Number: 20050601-0020.

Comment Date: 5 p.m. Eastern Time on Friday, June 17, 2005.

Docket Numbers: ER05-1037-000.

Applicants: Virginia Electric and Power Company.

Description: Virginia Electric and Power Co. d/b/a Dominion Power submits an executed Mutual Operating Agreement with Old Dominion Electric Cooperative under ER05-1037.

Filed Date: 05/27/2005.

Accession Number: 20050601-0025.

Comment Date: 5 p.m. Eastern Time on Friday, June 17, 2005.

Docket Numbers: ER05-1038-000.

Applicants: Virginia Electric and Power Company.

Description: Virginia Electric and Power Co. d/b/a Dominion Virginia submits an executed Mutual Operating Agreement with Central Virginia Electric Cooperative under ER05-1038.

Filed Date: 05/27/2005.

Accession Number: 20050601-0024.

Comment Date: 5 p.m. Eastern Time on Friday, June 17, 2005.

Docket Numbers: ER05-1039-000.

Applicants: PJM Interconnection, L.L.C.

Description: PJM Interconnection, L.L.C. submits revisions to its Schedule 2 of the PJM Open Access Transmission Tariff to reflect the new revenue requirements of Duke Energy Hanging Rock, LLC and Duke Energy Washington LLC under ER05-1039.

Filed Date: 05/27/2005.

Accession Number: 20050601-0006.

Comment Date: 5 p.m. Eastern Time on Friday, June 17, 2005.

Docket Numbers: ER05-1040-000.

Applicants: Virginia Electric and Power Company.

Description: Virginia Electric & Power Co d/b/a Dominion Virginia Power submits an executed Mutual Operating Agreement with the Town of Enfield, NC under ER05-1040.

Filed Date: 05/27/2005.

Accession Number: 20050601-0004.

Comment Date: 5 p.m. Eastern Time on Friday, June 17, 2005.

Docket Numbers: ER05-1041-000.

Applicants: Westar Energy, Inc.

Description: Westar Energy, Inc submits a notice of cancellation of an Electric Power Supply Agreement with the City of Morrill, KS designated as Rate Schedule 260 under ER05-1041.

Filed Date: 05/27/2005.

Accession Number: 20050601-0003.

Comment Date: 5 p.m. Eastern Time on Friday, June 17, 2005.

Docket Numbers: ER05-1042-000.

Applicants: Southern Company Services, Inc.

Description: Southern Company Services, Inc as agent for Alabama Power Co. and Southern Electric Generating Company, submits an Updated Depreciation Rates for Alabama Power Co. and Southern Electric Generating Co. under ER05-1042.

Filed Date: 05/27/2005.

Accession Number: 20050602-0088.

Comment Date: 5 p.m. Eastern Time on Friday, June 17, 2005.

Docket Numbers: ER04-106-011, ER04-691-044, EL04-104-042.

Applicants: Midwest Independent Transmission System Operator, Inc.

Description: Midwest Independent Transmission System Operator, Inc submits proposed revisions to Attachment P (list of Grandfather Agreements etc) contained in Midwest ISO's Open Access Transmission and Energy Markets Tariff

Filed Date: 05/27/2005.

Accession Number: 20050601-0005.

Comment Date: 5 p.m. Eastern Time on Friday, June 17, 2005.

Docket Numbers: ER04-789-003, ER04-802-004, ER04-1033-002.

Applicants: Wabash Valley Power Association, Inc.

Description: Wabash Valley submits First Revised Tariff Sheet 2, et al., to FERC Electric Tariff, Original Volume 1.

Filed Date: 05/27/2005.

Accession Number: 20050601-0002.

Comment Date: 5 p.m. Eastern Time on Friday, June 17, 2005.

Docket Numbers: ER05-226-001.

Applicants: American Electric Power Service Corporation.

Description: Southwest Power Pool submits Interchange & Interconnection Agreement among Grand River Dam Authority, Public Service Company of Oklahoma and Southwest Power Pool.

Filed Date: 05/27/2005.

Accession Number: 20050601-0013.

Comment Date: 5 p.m. Eastern Time on Friday, June 17, 2005.

Docket Numbers: ER05-454-002, ER05-455-002, ER02-2407-003, ER05-639-002, ER05-98-001, ER05-118-001, ER05-131-001, ER02-2397-004, ER03-796-003.

Applicants: Bear Swamp Power Company LLC.

Description: Bear Swamp Power Co, LLC et al. submits a Notice of Change in Status and a revised market-based rate tariffs, pursuant to Order 652.

Filed Date: 05/27/2005.

Accession Number: 20050602-0060.

Comment Date: 5 p.m. Eastern Time on Friday, June 17, 2005.

Docket Numbers: ER05-654-002.

Applicants: Phoenix Energy Trading, LLC.

Description: Phonenx Energy Trading, LLC submits amended Phoenix Rate Schedule FERC 1 under ER05-654.

Filed Date: 05/27/2005.

Accession Number: 20050601-0012.

Comment Date: 5 p.m. Eastern Time on Friday, June 17, 2005.

Docket Numbers: ER05-692-001.

Applicants: PJM Interconnection L.L.C.

Description: PJM Interconnection LLC submits revisions to Schedule 2 of the PJM Open Access Transmission Tariff to revise the effective date of Buckeye Power Inc.'s revenue requirement for providing cost-based Reactive Support and Voltage Control from Generation Sources Service.

Filed Date: 05/27/2005.

Accession Number: 20050601-0010.

Comment Date: 5 p.m. Eastern Time on Friday, June 17, 2005.

Docket Numbers: ER05-766-001.

Applicants: Soyland Power Cooperative, Inc.

Description: Soyland Power Cooperative, Inc. submits Revised Rate Schedules in compliance with FERC's 5/6/05 letter order.

Filed Date: 05/27/2005.

Accession Number: 20050601-0266.

Comment Date: 5 p.m. Eastern Time on Friday, June 17, 2005.

Docket Numbers: ER05-833-001.

Applicants: American Transmission Company LLC.

Description: American Transmission Co, LLC submits a replacement page to the Table of Contents of the Amended and Restated Generation Transmission Interconnection Agreement that was filed on 4/13/05 under ER05-833.

Filed Date: 05/27/2005.

Accession Number: 20050601-0008.

Comment Date: 5 p.m. Eastern Time on Friday, June 17, 2005.

Docket Numbers: ER05-834-001.

Applicants: American Transmission Company LLC.

Description: American Transmission Co, LLC submits two replacement pages to the Table of Contents of the Amended & Restated Generation Transmission Interconnection Agreement that was filed on 4/14/05 under ER05-834.

Filed Date: 05/27/2005.

Accession Number: 20050601-0007.

Comment Date: 5 p.m. Eastern Time on Friday, June 17, 2005.

Docket Numbers: ER05-936-001.

Applicants: Black Hills Power, Inc.

Description: Black Hills Power, Inc submits a replacement tariff sheet for the canceled Common Use Agreement in conformance with Order 614 et al. under ER05-936.

Filed Date: 05/27/2005.

Accession Number: 20050601-0015.

Comment Date: 5 p.m. Eastern Time on Friday, June 17, 2005.

Docket Numbers: ER05-990-001.

Applicants: Southwest Power Pool.

Description: Southwest Power Pool submits a revision to their 5/19/05 filing to revise its Open Access Transmission Tariff to implement a rate change for Westar Energy, Inc.

Filed Date: 05/27/2005.

Accession Number: 20050601-0011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlinSupport@ferc.gov. or call (866) 208-3676 (toll free). For TTY, call (202) 502-8659.

Linda Mitry,
Deputy Secretary.

[FR Doc. E5-2930 Filed 6-7-05; 8:45 am]

BILLING CODE 6717-01-P